FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
4002F | Ocean Trade International, Inc., 16517 SW 52nd Street, Miami, FL 33185 | July 22, 2010.
004553F | Marianas Steamship Agencies, Inc. dba MSA Logistics, Commercial Port Annex, 2nd Floor, 1010 Cabras Highway, Piti, Guam 96915 | August 15, 2010.

Sandra L. Kusumoto,
Director, Bureau of Certification and Licensing.

[FR Doc. 2010-24412 Filed 9-28-10; 8:45 am]

BILLING CODE P